DEPARTMENT OF ENERGY

Federal Energy Regulatory Commission

[Docket Nos. ER06-94-001; EL06-77-000]

ISO-New England Inc.; Notice of Institution of Proceeding and Refund Effective Date

June 19, 2006.

On June 16, 2006, the Commission issued an order that instituted a proceeding in Docket No. EL06-77-000, pursuant to section 206 of the Federal Power Act (FPA), 16 U.S.C. 824e (2005), concerning the justness and reasonableness of ISO-New England Inc.'s external affairs and corporate communications expenses. ISO-New England, Inc., 115 FERC ¶ 61,332 (2006).

The refund effective date in Docket No. EL06-77-000, established pursuant to section 206(b) of the FPA, will be the date of publication of this notice in the Federal Register.

Magalie R. Salas,
Secretary.

[FR Doc. E6-10124 Filed 6-27-06; 8:45 am]

BILLING CODE 6717-01-P